DEPARTMENT OF HEALTH AND HUMAN SERVICES

Performance Review Board Members

Title 5, U.S.C. 431 4(c)(4) of the Civil Service Reform Act of 1978, Public Law 95-454, requires that the appointment of Performance Review Board Members be published in the Federal Register.

The following persons may be named to serve on the Performance Review Boards of Panels, which oversee the evaluation of performance appraisals of Senior Executive Service members of the Department of Health and Human Services.

Office of the Secretary:
Agnew, Ann C | Executive Secretary to the Department.
Babin, Holly J | Deputy Assistant Secretary, Public Affairs (Media).
Baldus, Andrew C | Director, Division of Budget Policy, Execution and Review.
Barker, Thomas R | Deputy General Counsel.
Barry, Daniel J | Deputy Associate General Counsel (Procurement, Fiscal and Information Law).
Barsoomian, Lisa | Deputy Associate General Counsel (Claims and Employment Law).
Bartley, Paul S | Director, Program Support Center.
Bedker, Larry J | Director, Business Operations.
Bell, Karen M | Director, Office of Health Information Technology.
Bennett, Carol J | Deputy Program Integrity.
Benor, David E | Associate General Counsel for Public Health.
Bowlin, Christopher M | Deputy Assistant Secretary for Legislation (Human Services).
Broman, Barbara B | Deputy to the Deputy Assistant Secretary for Planning and Evaluation (Health Services Policy).
Brown, Martin J | Deputy Assistant Secretary for Acquisition Management and Policy.
Burke, Jamie T | White House Liaison for Political Personnel, Boards and Commissions.
Burton, Jeremy C | Deputy Assistant Secretary, Legislation (Planning and Budget).
Cade, David S | Deputy General Counsel.
Caliguiri, Laura M | Director, Intergovernmental Affairs.
Campanelli, Richard M | Counselor for Public Health and Science.
Caperton, David G | Deputy General Counsel.
Carleton, Michael W | Deputy Assistant Secretary, Chief Information Officer.
Carver, Galen P | Service Center Director.
Cash, Lester D | Associate Deputy Assistant Secretary, Budget.
Chiedi, Giovanna M | Deputy Director for Management Operations.
Cochran, Norris W | Director, Division of Discretionary Programs.
Collins, Eugene | Executive Officer.
Conley, Mary Sheila | Deputy Assistant Secretary, Finance.
Conroy, Glenda J | Deputy Chief Financial Officer.
Corrigan, Dara A | Deputy to the Deputy Assistant Secretary for Planning & Evaluation.
Cronin, Kelly | Director, Office of Programs and Coordination.
Croshaw, Andrew A | Senior Executive Advisor.
Daniel, Jodi Goldstein | Director, Office of Policy and Research.
Davis, Jeffrey S | Associate General Counsel.
Dawson, Molly P | Director, Office of Financial Policy and Reporting.
Demske, Gregory E | Assistant Inspector General.
Detherage, Marie P | Executive Director.
Dorn, Alan S | Chief Counsel.
Downing, Gregory J | Senior Executive Advisor.
Ellis, Joe W | Assistant Secretary for Administration and Management.
Flory, Ashley F | Deputy Executive Secretary.
Friedman, Charles P | Deputy National Coordinator.
Frohboese, Robinsue | Principal Deputy Director.
Fullem, Michael B | Director, HHS Acquisition Consolidation.
Galik, Daniel | Chief Information Security Officer.
Giannini, Margaret J | Director, Office of Disability.
Goforth, Prudence J | Director, Web and New Media Communication.
Goldberg, Larry J | Principal Deputy Inspector General.
Green, Joe J | Assistant Inspector General for Financial Management and Regional Operations.
Hall, Philo D | Counselor for Human Services Policy.
Hall, William H | Director, News Division.
Hapchuk, John M | Assistant Inspector General for Audit Management and Policy.
Harris, Antonia T | Deputy Assistant Secretary for Human Resources.
Hoff, John S | International Health Attaché.
Hoffman, Janice L | Associate General Counsel, Centers for Medicare and Medicaid Services Division.
Hughes, Matthew John | Deputy Assistant Secretary for Legislation (Congressional Liaison).
Hurst, Terry L | Deputy Assistant Secretary, Grants.
Jarman, John S | Executive Officer.
Jenkins, George E | Director, Program Management & Systems Policy.
Johnson, Paul R | Director, Office of Legal Resources.
Jones, Wanda K | Deputy Assistant Secretary, Women's Health.
Kamoie, Brian E | Director, Office of Policy and Strategic Planning.
Katz, Ruth E | Deputy to the Deputy Assistant Secretary for Planning and Evaluation (Disability, Aging and Long-Term Care Policy).
Keith, Robert E | Associate General Counsel.
Kelsey, Howard D | Deputy Assistant Secretary for Facilities Management and Policy.
Kocher, Paula L | Deputy Associate General Counsel.
Kouzoukas, Demetrios L | Associate Deputy Secretary.
Kruger, Mary U | Special Assistant and Senior Policy Advisor.
Lerner, Joel J | Chief Counsel.
Lewis, Kimberly A | Director, Baltimore Human Resource Center.
Linden, Carol D | Principal Deputy Director, Office of Public Health Emergency Medical Countermeasures.
Mahan, Roger A | Deputy Assistant Secretary for Legislation.
Masoudi, Gerald F | Associate General Counsel, Food & Drug.
Mazanec, Mary B | Director, Office of Medicine, Science and Public Health.
McAndrew, Susan D | Deputy Director for Health Information.
McCabe, William M | Director, Financial Management Service.
McGarey, Barbara M | Deputy Associate General Counsel for Public Health, National Institutes of Health.
McGeein, Mary | Principal Deputy Assistant Secretary for Planning and Evaluation.
McKeown, Richard B | Chief of Staff.
McMillen, Cheryl L | Director, Division of Health Benefits and Income Security.
Meeks, Donald E | Assistant Inspector General for Investigations.
Menke, Timothy J | Deputy Inspector General for Investigations.
Migliaccio, Eugene A | Director, Federal Occupational Health.
Miller, Tamara L | Deputy Director for Civil Rights.
Morales, Mario | Director, Division of Physical Security.
Morris, Charles G | Deputy Chief of Staff.
Morris, Lewis | Deputy Inspector General for Legal Affairs.
Morris, Willis A | Senior Advisor to Assistant Secretary for Health.
Naimon, David A | Deputy Associate General Counsel for Public Health.
Nightengale, Gina E | Program Manager, Talent and Advisory Services.
Noonan, Robert M | Deputy Assistant Secretary for Business. Transformation.
Noronha, Preeya M | Principal Deputy General Counsel.
Nystrom, Scott V | Senior Advisor to the Assistant Secretary Planning and Evaluation.
O'Neill, James B | Principal Associate Deputy Secretary.
Pardue, Melissa G | Deputy Assistant Secretary for Planning & Evaluation (Human Services Policy).
Parekh, Anand K | Deputy Assistant Secretary for Health (Science & Medicine).
Parker, Gerald W | Deputy Assistant Secretary for Management and Policy.
Pascal, Christophe B | Director, Office of Research Integrity.
Paxman, Dalton G | Regional Health Administrator.
Pereira, Segundo | Director, Office of Diversity Management and Equal Employment Opportunity.
Petillo, John J | Director, Office of Resource Planning and Evaluation.
Petti, Dana J | Chief Counsel.
Pilato, Anna | Director, Center for Faith-based and Community Initiatives.
Pilcher, Lori S | Assistant Inspector General for Grants and Internal Activities.
Polston, Mark D | Deputy Associate General Counsel.
Pruett, Douglas J | Director, Personnel Security & Classification.
Raub, William F | Science Advisor to the Secretary.
Reeb, George M | Assistant Inspector General for Medicare and Medicaid Service Audits.
Ritchie, Brian P | Assistant Inspector General for Evaluations Inspections.
Robinson, Robin A | Deputy Assistant Secretary and Director, Biomedical Advance Development Research Authority.
Rojee, Frederick J | Business Continuity Project Director.
Roy, Gerald T | Assistant Inspector General for Investigative Operations.
Scanlon, James V | Deputy Assistant Secretary.
Schweers, Kevin L | Deputy Assistant Secretary for Public Affairs (Policy and Strategy).
Shahrigian, Raffle | Director, Division of Strategic Information.
Shellenberger, Joseph S | Deputy Inspector General for Management and Policy.
Sizemore III, Richard T | Principal Deputy Director, Office of Preparedness and Emergency Operations.
Stannard, Paula M | Deputy General Counsel, Program Review.
Stansel, James C | Counselor for Health Policy.
Steiger, William R | Director, Office of Global Health.
Steinberg, Gary A | Chief Learning Officer.
Swindell, Edgar M | Associate General Counsel.
Swope, Jay A | Special Projects Director.
Teeter, John L | Deputy Chief Information Officer.
Tingus, Steven J | Deputy Assistant Secretary for Planning Evaluation (Disability, Aging and Long-Term Care Policy).
Tobias, Constance B | Chair, Departmental Appeals Board.
Turman, Richard J | Deputy Assistant Secretary, Budget.
Tyllas, Michael A | Director, Administrative Operations Service.
Valdez, Mary Lou | Deputy Director for Policy, Office of Global Health Affairs.
Velasco II, Robert | Director of Program Operations.
Vengrin, Joseph E | Deputy Inspector General for Audit Services.
Wallace, Sondra S | Associate General Counsel.
Watson, Michael L | Service Center Director.
Weisman, Marc R | Executive Director.
Wells, Denise L | Director of Management Operations.
Wilkinson, Winston A | Director, Office of Civil Rights.
Woo, Edwin | Associate General Counsel.
Wright, Donald J | Principal Deputy Assistant Secretary for Health.
Wright, Stuart E | Deputy Inspector General for Evaluation and Inspections.
Yeskey, Kevin S | Director, Office of Preparedness and Emergency Operations.
Administration for Children and Families (ACF):
Bean, Margaret E | Deputy Director, Office of Child Support Enforcement.
Brown, Patricia E | Director, Office of Head Start.
Calpin, Christine M | Associate Commissioner, Children's Bureau.
Coy, Curtis L | Deputy Assistant Secretary Administration.
Curtis, Michael E | Director, Office of Information Services and Deputy Chief Information Officer.
Dawson, Diann | Director.
Fuentes Jr., Frank | Deputy Director.
Fujii, Sharon M | Regional Hub Director.
Goldstein, Naomi C | Director, Office of Planning, Research and Evaluation.
Higgins, Mary Ann | Regional Hub Director.
Keckler, Charles N | Deputy Assistant Secretary for Policy & External Affairs.
Kless, Katherine A | Deputy Director (Temporary Assistance for Needy Families).
Mccowan, Leon R | Regional Hub Director.
Mocko, Madeline | Director.
Morrissey, Patricia A | Commissioner.
Owens, Arne W | Director, Office of Public Affairs.
Robinson, Josephine Bias | Director, Office of Community Services.
Schneider, Daniel C | Principal Deputy Assistant Secretary.
Siegel, David H | Project Manager.
Squier, Sidonie A | Director, Office of Family Assistance.
Thomas, Joyce A | Regional Hub Director.
Williams, Carlis V | Regional Hub Director.
Agency for Healthcare Research and Quality (AHRQ):
Fitzmaurice, J M | Senior Science Advisor.
Handelman, Mark | Director, Information Technology.
Kendrick, Kathleen A | Deputy Director, Agency for Healthcare, Research and Quality.
Slutsky, Jean R | Director, Center for Outcomes & Evidence.
Zucker, Phyllis M | Director, Policy Coordination.
Francis Chesley, Jr., MD | Director, Office of Extramural Research, Education & Priority Populations.
Steven Cohen, PhD | Director, Center for Financing, Access, & Cost Trends.
Irene Fraser, PhD | Director, Center for Delivery, Organization & Markets.
Allan Lazar | Director, Office of Communications & Knowledge Transfer.
David Meyers, MD | Director, Center for Primary Care, Prevention & Clinical Partnerships.
William Munier, MD | Director, Center for Quality Improvement & Patient Safety.
Jeffrey Toven | Director, Office of Performance Accountability, Resources & Technology.
Administration on Aging (AOA):
Burns, Francis A | Deputy Assistant Secretary Center for Wellness and Community-Based Services.
Walker, Edwin L | Deputy Assistant Secretary for Policy and Programs.
Wren, John T | Deputy Assistant Secretary for Policy and Management.
Centers for Disease Control and Prevention (CDC):
Austin, Carol L | Special Advisor for Policy.
Blount, Stephen B | Associate Director Global Health.
Burel, William G | Director, Strategic National Stockpile.
Campbell, Joseph R | Issues and Analysis Coordination.
Chandler, George F | Director, Buildings and Facilities.
Dean, Hazel D | Deputy Director.
Dickey, Avis D | Executive Officer.
Duncan, Canton M | Deputy Chief Operating Officer.
Galaska, Louise | Chief Management Officer.
Garland, Donna M | Director, Office of Enterprise Communication.
Gerberding, Julie L | Director, Centers for Disease Control Prevention.
Gimson III, William H | Chief Operating Officer.
Haddix, Anne C | Chief Policy Officer.
Harris, Barbara W | Chief Financial Officer.
Harris, Walter S | Chief Management Officer.
Henson Sampson, Rosemarie | Deputy Director.
Hunter, Edward L | Deputy Director.
Kenny, Judith N | Director, Information Technology Services.
Kotch, Alan A | Director, Procurement and Grants.
Lankford Jr., Crayton J | Chief Management Officer.
Martin, Ruth M | Chief Management Officer.
Mebane, Reginald R | Chief Management Officer.
Nichols, William P | Financial Manager.
Nowak, Glen J | Chief of Media Relations.
Porter, Diane D | Deputy Director for Management.
Porter, William T | Chief Security Officer.
Seligman, James D | Chief Information Officer.
Shebesh, Karen M | Chief Management Officer.
Shriber, Donald E | Associate Director, Washington.
Sontag, Edward W | Senior Advisor to Director Global Health Affairs.
Warren, Rueben C | Associate Administrator for Urban Affairs.
Kevin Fenton, MD | Director, National Center for HIV/AIDS, Viral Hepatitis, Sexually Transmitted Diseases, and Tuberculosis Prevention.
Howard Frumkin, MD | Director, National Center for Environmental Health/Agency for Toxic Substances and Disease Registry.
Ileana Arias, MD | Director, National Center for Injury Prevention and Control.
Alison Johnson | Deputy Director, National Center for Birth Defects and Developmental Disabilities.
Rima Khabbaz, MD | Director, National Center for Preparedness, Detection and Control of Infectious Disease.
Carolyn Black, MD | Director, Division of Scientific Resources, National Center for Preparedness, Detection and Control of Infectious Diseases.
Centers for Medicare and Medicaid Services (CMS):
Arden, Gale P | Director, Disabled and Elderly Health Programs Group.
Bassano, Amy | Director, Hospital and Ambulatory Policy Group.
Benson, Rodney L | Director, Office of Acquisitions and Grants.
Block, Abby L | Director, Center for Beneficiary Choices.
Boughn, Julie C | Director, Office of Information.
Brandt, Kimberly L | Director, Program Integrity Group.
Carter, Cathy T | Director, Business Application.
Chao, Henry | Chief Technology Officer.
Cipolloni, Frank D | Director, Enterprise Databases Group.
Constantian, Alan R | Director, Information Services.
Culotta, Anthony J | Director, Medicare Enrollment and Appeals Group.
Farris Jr., James R | Consortium Administrator.
Foster, Richard S | Chief Actuary Director, Office of the Actuary.
Frank, David A | Director, Medicaid Integrity Group.
Frizzera, Charlene | Chief Operating Officer, Centers for Medicare and Medicaid Services.
Garner, Jacqueline S | Consortium Administrator.
Gendron, Edward C | Director, Finance Systems and Budget
Gilbert, Mark A | Regional Administrator.
Good Burton, Sally A | Director, Enterprise Architect.
Hamilton, Thomas E | Director, Survey Certification Group.
Hammarlund, John T | Regional Administrator.
Hill, Timothy B | Director, Office of Financial Management (Chief Financial Officer).
Hutchinson, Thomas E | Director, Medicare Plan Payment.
Jackson, Karen E | Director, Medicare Contractor Management.
Johnson, Donald N | Deputy Director, Office of Legislation.
Kerr, James I | Consortium Administrator.
Kickham, Thomas M | Director, Strategic Research & Campaign Management Group.
King, Robin R | Director, Office of External Affairs.
King, Terris A | Deputy Director, Office of Clinical Standards and Quality.
Kuhn, Herbert B | Deputy Administrator, Centers for Medicare and Medicaid Services.
Lasowski, William S | Deputy Director.
Laureno, Mary A | Director, Benefits Information Services Group.
Loper, Clifford Mark | Deputy Director, Center for Benefits.
Love, Timothy P | Director, Office of Research, Development and Information.
Montilla, Maria C | Director, Accounting Management.
Mussey, Solomon M | Supervisory Actuary.
Nicholson, Geraldine A | Director, Provider Communications.
Oconnor, Nancy B | Regional Administrator.
Perich, Wesley R | Director, Budget Analysis Group.
Reilly, Nanette F | Consortium Administrator.
Rich, Jeffrey B | Director, Center for Medicare Management.
Richter, Elizabeth | Deputy Director, Center for Medicare Management.
Saunders, William D | Deputy Director, Office of Information.
Sayen, David W | Regional Administrator.
Sheil, Jean K | Director, Family & Children's Health Programs Group.
Snyder, Anna M | Deputy Chief Operating Officer.
Spitalnic, Paul I | Director, Parts C & D Actuarial.
Stoss, Douglas M | Senior Advisor to the Administration.
Straube, Barry M | Chief Medical Officer.
Streimer, Stewart H | Director, Provider Billing Group.
Taylor, Deborah A | Deputy Director, Office of Financial Management.
Tranchida, Brenda J | Director, Program Compliance and Oversight Group.
Trenkle, Anthony F | Director, Office of E-health Standards Services.
Tudor, Cynthia G | Director, Medicare Drug Benefit Group.
Vaccaro, Robert T | Director, Enterprise Data Center.
Vogel, Janet L | Director, Financial Management.
Walters, Gerald I | Director, Financial Services Group.
Weber, James W | Deputy Director, Office of Operations.
Weems, Kerry N | Senior Advisor to the Administrator.
White, Jacquelyn Y | Director, Office of Strategic Operations and Regulatory Affairs.
Wilson, Laurence D | Director, Chronic Care Policy Group.
Food and Drug Administration (FDA):
Abbott, Russell J | Director, Office of Management.
Anson, Jeanne A | Associate Director for Management (National Center for Toxicological Research).
Autor, Deborah M | Director, Office of Compliance.
Axelrad, Jane A | Associate Director for Policy.
Bachorik, Lawrence L | Assistant Commissioner External Relations.
Barfell, Glenda F | Director, Office of Acquisitions.
Beck, Catherine P | Associate Director for Policy.
Bernard, Susan Maureen | Associate Director for Regulations.
Blumberg, Eric M | Deputy Associate General Counsel.
Buehler, Gary J | Director, Office of Generic Drugs.
Davis, Lori E | Deputy Chief Information Officer.
Doyle, Gregory | Chief of Shared Services.
Dwyer, David E | Director, Office of Real Property.
Dyer, John R | Deputy Commissioner for Operations.
Fraser, Leslye M | Director, Office of Regulations and Policy.
Gardner, Susan N | Director, Office of Surveillance.
Gentile, John P | Associate Commissioner for Operations.
Gill, Lillian J | Senior Associate Director.
Henderson, Deborah J | Senior Advisor.
Holden, Kimberly A | Assistant Commissioner for Management Operations.
Horowitz, David J | Assistant Commissioner for Policy.
Landa, Michael M | Deputy Director for Regulatory.
Lutter, Randall W | Deputy Commissioner for Policy.
Malarkey, Mary Anne | Director, Office of Compliance.
Maloney, Diane M | Associate Director for Policy.
McChesney, Daniel G | Director, Office of Surveillance and Compliance.
McConagha, William A | Senior Advisor & Regulatory Counsel for Integrity and Accountability.
McGarey, Patrick O | Director, Office of Budget Formulation and Presentation.
McKee, Ruth E | Associate Director for Management.
Mullin, Theresa M | Associate Director for Planning and Business.
Murphy, Deanna B | Director, White Oak Consolidation Program.
Plaisier, Melinda K | Associate Commissioner of International Programs.
Rice, Lynne L | Director, Office of Communications, Education and Radiation Programs.
Senger, Jeffrey M | Deputy Chief Counsel.
Spiller, Philip C | Director, Office of Seafood.
Stitely, Timothy A | Chief Information Officer.
Strachan, James M | Director, Office of Resource Management.
Tillman, Donna Bea | Director, Office of Device Evaluation.
Ulatowski, Timothy A | Director, Office of Compliance.
Vaughn, Steven D | Director, Office of New Animal.
Vermillion, Terrell L | Director, Office of Criminal Investigation.
Wardrop Jr., David E | Associate Director for Management.
Williams, Thomas D | Associate Director for Management.
Winckler, Susan C | Chief of Staff.
Winkle, Helen N | Director, Office of Pharmaceutical Science.
Wion, Ann H | Deputy Chief Counsel for Program Review.
Health Resources and Services Administration (HRSA):
Aronoff, F R | Deputy Associate Administrator, Healthcare Systems Bureau.
Austein Casnoff, Cheryl A | Associate Administrator for Health.
Brand, Marcia K | Associate Administrator, Bureau of Health.
Cheatham, Tina M | Director, Office of Communications.
Cheever, Laura W | Deputy Associate Administrator, HIV/AIDS.
Duke, Elizabeth M | Administrator, Health Resources and Services Administration.
Espinosa, Diana | Deputy Associate Administrator, Bureau of Health Professions.
Flickinger, Catherine A | Director, Office of Information Technology and Chief Information Officer.
Geolot, Denise H | Director, Center for Quality.
Homer, Mary J | Director, Office of Equal Opportunity and Civil Rights.
Lewis, Caroline T | Deputy Associate Administrator.
Macrae, James | Associate Administrator, Bureau of Primary Health Care.
Marconi, Katherine M | Director, Office of Science and Epidemiology.
McCann, Samuel A | Associate Administrator for Financial Management/Chief Financial Officer.
McGinness, Nancy J | Associate Administrator, Office of Federal Assistance Management.
Morgan, Douglas | Director, Division of Service Systems.
Morris, Thomas F | Associate Administrator, Rural Health Policy.
Nelson, Jon L | Deputy Associate Administrator.
Smith, Richard J | Associate Administrator, Bureau of Clinical Recruitment Services.
Smith, Stephen R | Special Assistant to the Administrator.
Somsak, Joyce G | Associate Administrator, Health.
Spitzgo, Rebecca H | Associate Administrator, Office of Performance Review.
Stroup, Patricia A | Director, Office of Legislation.
Van Dyck, Peter C | Associate Administrator for Maternal and Child Health Bureau.
Vannostrand, Lyman G | Director, Office of Planning and Evaluation.
Williams, Dennis P | Deputy Administrator, Health Resource and Services Administration.
Nesseler, Kerry P | Director, Office of International Health Affairs.
Parham Hopson, Deborah | Associate Administrator, HIV/AIDS Bureau.
Weaver, Donald L | Deputy Associate Administrator, Bureau of Primary Health Care.
Indian Health Service (IHS):
Annette, Kathleen R | Director, Bemidji Area.
Church, Richard M | Director, Office of Public Health Service.
Conway Jr., Cecil P | Director, Billings Area.
Davis, Don J | Director, Phoenix Area.
Dupree, Dorothy A | Director, Tucson Area.
Elliott, Athena S | Director, Office Management Services.
Grinnell, Randy | Director, Designated Management Official.
Harper, Carl L | Director, Resource Access and Partnerships.
Hartz, Gary J. | Director, Office of Environment.
Hubbard Jr., John | Director, Navajo Area.
Kerrigan, Margo D | Director, California Area Office.
Mandregan Jr., Christophe | Director, Alaska Area.
McSwain, Robert G | Deputy Director, Indian Health Service.
Ortiz, Hankie Poafpybitty | Director, Tribal Self-Governance.
Red Thunder, Charlene M | Director, Aberdeen Area.
Toya, James L | Director, Albuquerque Area.
Wilder, Donalda L | Director, Portland Area.
Wolfe, Phyllis S | Director, Office of Urban Indian Health Policy.
Halliday, Christopher | Chief Dental Officer.
National Institutes of Health (NIH):
Affeldt, Mary K | Associate Director of Operations.
Barros, Colleen F | Deputy Director of Management National Institutes of Health.
Bartrum, John J | Associate Director for Budget.
Billet, Courtney R | Director, Office of Communications and Government Relations, National Institute of Allergy and Infectious Diseases.
Breithaupt, William G | Associate Director for Management and Operations.
Burklow, John I | Associate Director for Communications.
Burton, Adriane R | Director of Division of Computer System Services.
Callahan, Kevin M | Director, Office of Strategic Planning and Financial Management/National Institute of Allergy and Infectious Disease.
Christoferson, Don P | Associate Director for Administrative Management.
Corn, Milton | Associate Director, Extramural Programs.
Cullen, William P | Associate Director for Security & Emergency Response.
Edwards, Brenda K | Associate Director, Surveillance Research Program.
Ellis, Joseph J | Director, Office of Policy for Extramural Research Administration.
Frasier, Diane J | Director, Office of Acquisition Integration and Modernization.
Gormley, Maureen E | Chief Operating Officer.
Greene, Elizabeth E | Associate Director for Management.
Harper, Joellen M | Associate Director for Management, National Institute of Neurological Disorders and Strokes.
Haseltine, Florence P | Director, Center for Population Research.
Hellinger, Lynn C | Director of Management.
Hollander, Marc S | Associate Director of Management.
Hrynkow, Sharon H | Special Advisor to the Deputy Director, National Institutes of Health.
Humphreys, Betsy L | Deputy Director, National Library of Medicine.
Johnson, Alfred C | Director, Office of Research Services.
Johnson, Lenora E | Director, Office of Communications and Education.
Joyce, Maria D | Chief Financial Officer, Clinical.
Kawazoe, Robin I | Associate Director for Administration.
Kerr, William D | Associate Director for Administration.
Kirschstein, Ruth L | Senior Advisor to the Director.
Kotzin, Sheldon | Associate Director for Library Operations.
Liu, Simon Y | Director, Information Systems.
Major, Christine M | Director of Human Resources.
Manolio, Ten A | Director, Office of Population Genomics.
Marron, Michael T | Associate Director, Bio Medical Technology.
Martin, Michael R | Senior Scientific Advisor.
McNairy Jr., Sidney A | Associate Director for Research Infrastructure.
McNicol, Lore Anne | Director, Division of Extramural Research.
Miller, Anita S | Director, Diabetes-Control Programs.
Mullaney, Mary J | Associate Director for Management.
Murphy, Thomas G | Associate Director for Management.
Nichols, Cheryl M | Director, Office of Science Planning and Assessment.
Penn, Audrey S | Senior Advisor to the Director.
Pinn, Vivian W | Associate Director, Research on Women's Health.
Rabson, Alan S | Deputy Director NCI.
Ray, Lawrence J | Deputy Director for Management.
Rowe, Mona J | Associate Director, Office of Science Policy, Analysis and Communication.
Schneider, Donald L | Director, Division of Molecular and Cellular Mechanisms.
Self, Lawrence N | Director, Office Equal Opportunity.
Servis, Suzanne J | Director, Office of Mgmt Assessment.
Shirdon, Patrick A | Associate Director for Management.
Smolonsky, Marc | Associate Director.
Stith, Kenneth W | Director, Financial Management.
Stover, Ellen L | Director, Division of Mental Disorders, Behavioral Research and Acquired Immunodeficiency Syndrome.
Stringfield, Laverne Y | Associate Director for Management.
Weinrich, Michael | Director, National Center for Rehabilitation Research in the National Institute of Child Health and Human Development.
Wheeland, Daniel G | Director, Office of Research Facilities Development and Operations.
Whitley, Alfred H | Deputy Director.
Whitmer, David L | Associate Director for Management.
Norza Ruiz Bravo, MD | Deputy Director for Extramural Research.
Michael Gottesman, MD | Deputy Director for Intramural Research, NIH.
Substance Abuse and Mental Health Services Administration (SAMHSA):
Autry, Joseph H | Senior Associate for Medical Affairs.
Berry, Joyce I | Division of State and Community Systems Development.
Clark, H Westley | Director, Center for Substance Abuse Treatment.
Costigan, Michael J | Senior Advisor.
Davis, Beverly W | Senior Advisor to the Administrator.
Harding, Frances M | Director, Center for Substance Abuse Prevention.
Kade, Daryl W | Associate Administrator for Policy, Planning and Budget.
Kopanda, Richard T | Deputy Director, Center for Substance Abuse Treatment.
Marsh, Anna L | Executive Officer.
Parry, Elaine P | Director of Special Initiatives.
Power, A Kathryn | Director, Center for Mental Health Services.
Romero, Dennis O | Deputy Director, Center for Substance Abuse Prevention.
Searle, Edward B | Deputy Director, Center for Mental Health Services.
Stone, James L | Senior Associate for Behavioral Health & Interagency Coordination.
Weber, Mark A | Associate Administrator for Communications.

Dated: October 1, 2008.
Antonia T. Harris,
Deputy Assistant Secretary for Human Resources,Department of Health and Human Services.

[FR Doc. E8-23796 Filed 10-9-08; 8:45 am]

BILLING CODE 5150-04-M